DEPARTMENT OF THE INTERIOR

Fish and Wildlife Service

50 CFR Part 17

[4500090022]

Endangered and Threatened Wildlife and Plants; 12-Month Findings on Petitions To List Four Species as Endangered or Threatened Species

AGENCY: Fish and Wildlife Service, Interior.

ACTION: Notification of 12-month petition findings.

SUMMARY: We, the U.S. Fish and Wildlife Service (Service), announce 12-month findings on petitions to list four species as endangered or threatened species under the Endangered Species Act of 1973, as amended (Act). After a thorough review of the best available scientific and commercial information, we find that listing the blackfin sucker, Mohave shoulderband snail, white-tailed prairie dog, and Woodville Karst cave crayfish is not warranted at this time. However, we ask the public to submit to us at any time any new information that becomes available concerning the stressors to any of the species listed above or their habitats.

DATES: The findings in this document were made on December 6, 2017.

ADDRESSES: Detailed descriptions of the basis for each of these findings are available on the Internet at http://www.regulations.gov under the following docket numbers:

Species | Docket No.
Blackfin sucker | FWS-R4-ES-2017-0084
Mohave shoulderband snail | FWS-R8-ES-2015-0021
White-tailed prairie dog | FWS-R6-ES-2008-0053
Woodville Karst cave crayfish | FWS-R4-ES-2017-0085

Supporting information used to prepare these findings is available for public inspection, by appointment, during normal business hours, by contacting the appropriate person, as specified under FOR FURTHER INFORMATION CONTACT. Please submit any new information, materials, comments, or questions concerning these findings to the appropriate person, as specified under FOR FURTHER INFORMATION CONTACT.

FOR FURTHER INFORMATION CONTACT:

Species | Contact information
Blackfin sucker | Lee Andrews, Field Supervisor, Kentucky Ecological Services Field Office, 502-695-0468.
Mohave shoulderband snail | Mendel Stewart, Field Supervisor, Carlsbad Fish and Wildlife Office, 760-431-9440.
White-tailed prairie dog | Tyler Abbott, Field Supervisor, Wyoming Ecological Services Field Office, 307-772-2374, ext. 231.
Woodville Karst cave crayfish | Catherine Phillips, Field Supervisor, Panama City Ecological Services Field Office, 850-769-0552.

If you use a telecommunications device for the deaf (TDD), please call the Federal Relay Service at 800-877-8339.

SUPPLEMENTARY INFORMATION:

Background

Within 12 months after receiving any petition to revise the Federal Lists of Endangered and Threatened Wildlife and Plants, we are required to make a finding whether or not the petitioned action is warranted (“12-month finding”), unless we determined that the petition did not contain substantial scientific or commercial information indicating that the petitioned action may be warranted (section 4(b)(3)(B) of the Act (16 U.S.C. 1531 et seq.)). We must make a finding that the petitioned action is: (1) Not warranted; (2) warranted; or (3) warranted but precluded. “Warranted but precluded” means that (a) the petitioned action is warranted, but the immediate proposal of a regulation implementing the petitioned action is precluded by other pending proposals to determine whether species are endangered or threatened species, and (b) expeditious progress is being made to add qualified species to the Federal Lists of Endangered and Threatened Wildlife and Plants (Lists) and to remove from the Lists species for which the protections of the Act are no longer necessary. Section 4(b)(3)(C) of the Act requires that we treat a petition for which the requested action is found to be warranted but precluded as though resubmitted on the date of such finding, that is, requiring that a subsequent finding be made within 12 months of that date. We must publish these 12-month findings in the Federal Register.

Summary of Information Pertaining to the Five Factors

Section 4 of the Act (16 U.S.C. 1533) and the implementing regulations at part 424 of title 50 of the Code of Federal Regulations (50 CFR part 424) set forth procedures for adding species to, removing species from, or reclassifying species on the Federal Lists of Endangered and Threatened Wildlife and Plants. The Act defines “endangered species” as any species that is in danger of extinction throughout all or a significant portion of its range (16 U.S.C. 1532(6)), and “threatened species” as any species that is likely to become an endangered species within the foreseeable future throughout all or a significant portion of its range (16 U.S.C. 1532(20)). Under section 4(a)(1) of the Act, a species may be determined to be an endangered species or a threatened species because of any of the following five factors:

(A) The present or threatened destruction, modification, or curtailment of its habitat or range;

(B) Overutilization for commercial, recreational, scientific, or educational purposes;

(C) Disease or predation;

(D) The inadequacy of existing regulatory mechanisms; or

(E) Other natural or manmade factors affecting its continued existence.

We summarize below the information on which we based our evaluation of the five factors provided in section 4(a)(1) of the Act to determine whether the blackfin sucker, Mohave shoulderband snail, white-tailed prairie dog, and Woodville Karst cave crayfish meet the definition of “endangered species” or “threatened species.” The supporting information upon which the finding for each species is based is documented in a species assessment form that contains more-detailed biological information, a thorough analysis of the listing factors, and an explanation of why we determined that these species do not meet the definition of an endangered species or threatened species. These forms can be found at http://www.regulations.gov under the appropriate docket number (see ADDRESSES, above).

In considering what stressors under the Act's five factors might indicate that the species may meet the definition of a threatened species or an endangered species, we must look beyond the mere exposure of the species to the stressor to determine whether the species responds to the stressor in a way that causes actual impacts to the species. If there is exposure to a stressor, but no response, or only a positive response, that stressor does not cause a species to meet the definition of a threatened species or an endangered species. If there is exposure and the species responds negatively, the stressor may be significant. In that case, we determine whether that stressor drives or contributes to the risk of extinction of the species such that the species warrants listing as an endangered or threatened species as those terms are defined by the Act. This does not necessarily require empirical proof of impacts to a species. The combination of exposure and some corroborating evidence of how the species is likely affected could suffice. The mere identification of stressors that could affect a species negatively is not sufficient to compel a finding that listing is appropriate; similarly, the mere identification of stressors that do not affect a listed species negatively is insufficient to compel a finding that delisting is appropriate. For a species to be listed or remain listed, we require evidence that these stressors are operative threats to the species and its habitat, either singly or in combination, to the point that the species meets the definition of an endangered or a threatened species under the Act.

In making these 12-month findings, we considered and thoroughly evaluated the best scientific and commercial information available regarding the past, present, and future stressors and threats. We reviewed the petitions, information available in our files, and other available published and unpublished information. These evaluations may include information from recognized experts; Federal, State, and tribal governments; academic institutions; foreign governments; private entities; and other members of the public.

The species assessment forms for the blackfin sucker, Mohave shoulderband snail, white-tailed prairie dog, and Woodville Karst cave crayfish provide the basis for these findings and can be found on the Internet at http://www.regulations.gov under the appropriate docket number (see ADDRESSES, above). The following are informational summaries for each of the findings in this document.

Blackfin Sucker (Thoburnia atripinnis)

Previous Federal Actions

On April 20, 2010, we received a petition from the Center for Biological Diversity (Center), Alabama Rivers Alliance, Clinch Coalition, Dogwood Alliance, Gulf Restoration Network, Tennessee Forests Council, and West Virginia Highlands Conservancy requesting that the blackfin sucker be listed as an endangered or threatened species under the Act. On September 27, 2011, we published a 90-day finding in the Federal Register (76 FR 59836) concluding that the petition presented substantial information indicating that listing the blackfin sucker may be warranted. This document constitutes the 12-month finding on the April 20, 2010, petition to list the blackfin sucker.

Summary of Finding

The blackfin sucker is a fish that is relatively small (140 mm (5.5 in.) in length) in comparison to other members of its family, Catostomidae, collectively known as suckers. The species is endemic to the upper Barren River System in north-central Tennessee and south-central Kentucky, primarily upstream of Barren River Dam, with historical records known from only two stream systems downstream of the dam.

Blackfin suckers inhabit clear headwater streams and are most frequently encountered in deeper sections of pools and runs. The species is typically observed near bedrock ledges, slabrock boulders, rootwads, and undercut banks. During the March and April spawning period, males are associated with swift riffles and females occupy pools where they are found occasionally under flat rocks at the edges of riffles.

We evaluated all relevant stressors under the five factors, including any regulatory mechanisms and conservation measures addressing these stressors. The primary stressors include effects of agriculture, sedimentation, stream modification, impoundments, and climate change. Despite impacts from these stressors, we find that the species has maintained the whole of its historical range and the number of occupied streams has increased. Considering that impacts from these stressors are expected to decrease or remain stable, and that the species exhibits redundancy, representation, and resiliency, we find that these stressors do not, alone or in combination, rise to a level that causes this species to meet the definition of a threatened species or an endangered species. Therefore, we find that listing the blackfin sucker as threatened or endangered is not warranted. A detailed discussion of the basis for this finding can be found in the blackfin sucker species assessment form and other supporting documents (see ADDRESSES, above).

Mohave Shoulderband Snail (Helminthoglypta (Coyote) greggi)

Previous Federal Actions

On January 31, 2014, we received a petition from the Center requesting that the Mohave shoulderband snail be listed as an endangered or threatened species under the Act. We published a substantial 90-day finding in the Federal Register (80 FR 19259) on April 10, 2015. Subsequently, we entered into a stipulated settlement agreement with the Center that required us to submit a 12-month finding to the Federal Register by November 30, 2017. This document constitutes the 12-month finding on the January 31, 2014, petition to list the Mohave shoulderband snail.

Summary of Finding

The Mohave shoulderband snail is a small (0.48 to 0.58 in (12.3 to 14.6 mm) in length), brown desert snail. The species inhabits rock outcrops and talus slopes found on volcanic formations in the western region of the Mojave Desert at Middle Butte, Standard Hill, and Soledad Mountain.

The species is dependent on local precipitation and subsequent increases in humidity within rock outcrop habitats. Although water represents the primary limiting resource in desert environments, other climatic and physical factors—such as temperature, topography, and food availability, or a combination of these factors—can influence the ecology of desert snails. Because of the hot, arid conditions in the Mojave Desert, the snail is active primarily during the brief winter season and enters a state of dormancy below ground during the remainder of the year. It emerges during and following periods of rainfall in search of food resources or for mating and egg-laying activities.

We evaluated all relevant stressors under the five factors, including any regulatory mechanisms and conservation measures addressing these stressors. The primary stressors include effects of habitat degradation from hard rock mining. We find that, while mining activities will likely result in some loss of suitable habitat, this loss will not lead to a significant decrease in the resources needed to meet the species' physical and ecological needs across the species' range. Furthermore, recent presence/absence surveys have resulted in additional observations of the species throughout its range. In all, we find that mining and other potential stressors, alone or in combination, do not rise to a level that causes this species to meet the definition of a threatened species or an endangered species. Therefore, we find that listing the Mohave shoulderband snail as threatened or endangered is not warranted. A detailed discussion of the basis for this finding can be found in the Mohave shoulderband snail species assessment form and other supporting documents (see ADDRESSES, above).

White-Tailed Prairie Dog (Cynomys leucurus)

Previous Federal Actions

On July 15, 2002, we received a petition to list the white-tailed prairie dog as threatened or endangered. We published a not-substantial 90-day finding in the Federal Register (69 FR 64889) on November 9, 2004. On February 22, 2008, after we received notice of a lawsuit challenging the not-substantial finding, we entered into a stipulated settlement agreement with the Center for Native Ecosystems and three other entities, to submit to the Federal Register a 12-month finding on the petition to list the white-tailed prairie dog. On June 1, 2010, we completed our status review and determined that the white-tailed prairie dog did not warrant listing (75 FR 30338). A September 9, 2014, court order remanded the 12-month not-warranted finding back to us for reconsideration (Rocky Mountain Wild v. U.S. Fish and Wildlife Service 2014, case 9:13-cv-00042-DWM). This finding constitutes our remanded 12-month finding on the petition to list the white-tailed prairie dog, and addresses all issues raised in the court's order.

Summary of Finding

The white-tailed prairie dog inhabits parts of Wyoming, Utah, Montana, and Colorado, and is one of five prairie dog species in western North America. The range of the white-tailed prairie dog has not changed appreciably since historical times, but historical poisoning campaigns, the introduction of plague, and habitat loss significantly reduced the abundance of white-tailed prairie dogs throughout its range.

The white-tailed prairie dog generally inhabits drier landscapes with shrub land vegetation, such as the high desert scrub community of Utah and sagebrush steppe of western Wyoming. It prefers areas with lower vegetation heights to facilitate predator surveillance, but it also may use dense brush adjacent to grassier areas to avoid predators. The white-tailed prairie dog digs its burrows, which require deep, well-drained soils.

We evaluated all relevant stressors under the five factors, including any regulatory mechanisms and conservation measures addressing these stressors. The primary stressors include effects of agricultural activities, shooting, poisoning, overgrazing, invasive weeds, wildfire, urbanization, energy development, drought, and plague. We found that white-tailed prairie dog populations are in moderate to high overall condition, with population trends stable or exhibiting some declines from stochastic events followed by recovery. In addition, white-tailed prairie dogs have multiple resilient populations, and exhibit adaptive capacity. Therefore, we find that these stressors do not, alone or in combination, rise to a level that causes this species to meet the definition of a threatened species or an endangered species. Therefore, we find that listing the white-tailed prairie dog as threatened or endangered is not warranted. A detailed discussion of the basis for this finding can be found in the white-tailed prairie dog species assessment form and other supporting documents (see ADDRESSES, above).

Woodville Karst Cave Crayfish (Procambarus orcinus)

Previous Federal Actions

On April 20, 2010, we received a petition from the Center requesting that the Woodville Karst cave crayfish be listed as an endangered or threatened species under the Act. On September 27, 2011, we published a 90-day finding in the Federal Register (76 FR 59836) concluding that the petition presented substantial information indicating that listing the Woodville Karst cave crayfish may be warranted. This document constitutes the 12-month finding on the April 20, 2010, petition to list the Woodville Karst cave crayfish.

Summary of Finding

The Woodville Karst cave crayfish is a subterranean species of crayfish endemic to several freshwater springs and sink caves within the panhandle of Florida. The adults are approximately 25 mm (1 in) in length and have a semitransparent cuticle revealing pinkish orange tissue underneath.

The species is known from 18 aquatic cave sites, all of which are within an area of approximately 100 square miles. It lives in shallow water at the mouth of sink holes to depths of 91 m (300 ft) and appears to require a flowing, freshwater, subterranean environment. However, specific water-quality requirements for the species are unknown.

We evaluated all relevant stressors under the five factors, including any regulatory mechanisms and conservation measures addressing these stressors. The primary stressors include effects of land-use activities and direct alterations of waterways, water withdrawal, sea-level rise, and overutilization. These stressors do not, alone or in combination, rise to a level that causes this species to meet the definition of a threatened species or an endangered species. Additionally, despite the potential for groundwater decline over time, populations are likely to remain resilient and be minimally affected since the species lives at significant spring depths and can move among springs and sinks in the underground system. Therefore, we find that listing the Woodville Karst cave crayfish as threatened or endangered is not warranted. A detailed discussion of the basis for this finding can be found in the Woodville Karst cave crayfish species assessment form and other supporting documents (see ADDRESSES, above).

New Information

We request that you submit any new information concerning the taxonomy, biology, ecology, status of, or stressors to, the blackfin sucker, Mohave shoulderband snail, white-tailed prairie dog, and Woodville Karst cave crayfish to the appropriate person, as specified under FOR FURTHER INFORMATION CONTACT, whenever it becomes available. New information will help us monitor these species and encourage their conservation. We encourage local agencies and stakeholders to continue cooperative monitoring and conservation efforts for these species. If an emergency situation develops for any of these species, we will act to provide immediate protection.

References Cited

Lists of the references cited in the petition findings are available on the Internet at http://www.regulations.gov in the dockets listed above in ADDRESSES and upon request from the appropriate person, as specified under FOR FURTHER INFORMATION CONTACT.

Authors

The primary authors of this document are the staff members of the Species Assessment Team, Ecological Services Program.

Authority: The authority for this action is section 4 of the Endangered Species Act of 1973, as amended (16 U.S.C. 1531 et seq.).

Dated: October 30, 2017.
James W. Kurth,
Deputy Director for U.S. Fish and Wildlife Service, Exercising the Authority of the Director.

[FR Doc. 2017-26349 Filed 12-5-17; 8:45 am]

BILLING CODE 4333-15-P